DEPARTMENT OF ENERGY

Federal Energy Regulatory Commission

[Project No 3428-171]

Brown Bear II Hydro, Inc.; Notice of Application for Amendment of License To Incorporate Final Fish Passage Plans and Soliciting Comments, Motions To Intervene and Protests

Take notice that the following hydroelectric application has been filed with the Commission and is available for public inspection:

a. Application Type: Amendment of License.

b. Project No: P-3428-171.

c. Date Filed: July 6, 2016.

d. Applicant: Brown Bear II Hydro, Inc.

e. Name of Project: Worumbo Hydroelectric Project.

f. Location: The Worumbo Project is located on the Androscoggin River in Androscoggin County, Maine.

g. Filed Pursuant to: Federal Power Act, 16 U.S.C. 791a-825r.

h. Applicant Contact: Scott Hall, P.O. Box 267, Orono, ME 04473, (207) 461-3617.

i. FERC Contact: Mr. Mark Pawlowski 202-502-6052, mark.pawlowski@ferc.gov.

j. Deadline for filing comments, motions to intervene, and protests: 30 days from the issuance of this notice

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the docket number (P-3428-171) on any comments, motions, or recommendations filed.

k. Description of Request: Brown Bear II Hydro, Inc., licensee for the Worumbo Project, requests that the Commission amend the project license to incorporate its proposed species protection plan for Atlantic salmon. Under the proposed species protection plan, the licensee would continue measures, including but not limited to: Operating the pneumatic flashboard system to provide a continuous downstream flow in the project's bypassed reach to maintain a downstream passage route for Atlantic salmon; operating the current upstream and downstream fish passage facilities in coordination with other hydroelectric projects located downstream of the Worumbo Project and the Maine Department of Marine Resources to provide passage for Atlantic salmon and other anadromous fish; and monitor bird predation during downstream passage studies. Proposed measures include, but are not limited to: Operating the upstream fish lift dependent on the timing of passage of Atlantic salmon or river herring at the first project on the Androscoggin River, operating the downstream fishway based on the prior year's passage of Atlantic salmon and river herring; flood gate operations to facilitate passage; adult passage studies; annual reporting; and a process for adaptive management.

l. Locations of the Application: A copy of the application is available for inspection and reproduction at the Commission's Public Reference Room, located at 888 First Street NE., Room 2A, Washington, DC 20426, or by calling 202-502-8371. This filing may also be Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”; “PROTESTS”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: October 5, 2016.
Kimberly D. Bose,
Secretary.

[FR Doc. 2016-24603 Filed 10-11-16; 8:45 am]

BILLING CODE 6717-01-P